DEPARTMENT OF THE TREASURY

Submission for OMB Review; Comment Request

July 20, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 27, 2001 to be assured of consideration.

Internal Revenue Service (IRS)

OMB Number: 1545-0010.

Form Number: IRS Form W-4.

Type of Review: Extension.

Title: Employee's Withholding Allowance Certificate.

Description: Employees file this form to tell employers (1) the number of withholding allowances claimed, (2) additional dollar amounts they want withheld each pay period and (3) if they are entitled to claim exemption from withholding. Employers use the information to figure the correct tax to withhold from the employee's wages.

Respondents: Individuals or households, Business or other for-profit, Not-for-profit institutions, Federal Government, State, Local or Tribal Government.

Estimated Number of Respondents/Recordkeepers: 54,209,079.

Estimated Burden Hours Per Respondent/Recordkeeper:

Recordkeeping—46 min.

Learning about the law or the form—13 min.

Preparing the form—59 min.

Frequency of Response: On occasion.

Estimated Total Reporting/Recordkeeping Burden: 116,007,430 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Mary A. Able,
Departmental Reports Management Officer.

[FR Doc. 01-18706 Filed 7-26-01; 8:45 am]

BILLING CODE 4830-01-P